FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

AC Alliance USA LLC (NVO & OFF), 1350 Michael Drive, Suite D, Wood Dale, IL 60191. Officers: Matway Gurfinkel, Manager (QI), Andrew Shepin, Manager/Member. Application Type: New NVO & OFF License.

Aduana International Freight Forwarding Services, Inc. (NVO & OFF), #7 Aspac Warehouse Harmon Industrial Warehouse, Harmon, Guam 96921. Officers: Edgar Baterna, Corporate Secretary (QI), Maria Lourdes Austria, President. Application Type: New NVO & OFF License.

AFC LS, LLC (NVO & OFF), 975 Cobb Place Blvd., Suite 101, Kennesaw, GA 30144. Officers: Keith Phillips, Vice President (QI), Glenn Henderson, President. Application Type: New NVO & OFF License.

Air Sea Land Shipping & Moving Inc. (NVO & OFF), 211 East 43rd Street, Suite 1206, New York, NY 10017. Officers: Vajira P. Mendis, President (QI), Rienzie D. Fernando, Vice President. Application Type: New NVO & OFF License.

Armada AVS Corp (NVO), 709 E. Walnut Street, Carson, CA 90746. Officers: Oksana Zharkova, Secretary (QI), Vadim Kornilov, President. Application Type: QI Change.

Auto Export Shipping, Inc. dba A.E.S. Inc. (NVO), One Slater Drive, Elizabeth, NJ 07206. Officers: Michael DeCandia, Assistant Secretary (QI), Andrea Amico, President. Application Type: QI Change.

Bright Star Logistics, Inc. (NVO & OFF), 11205 S. La Cienega Blvd.,Los Angeles, CA 90045. Officers: Kirk Kim, Secretary (QI), Woo B. Lim, President. Application Type: QI Change.

Darya Globeship, LLC (NVO & OFF), 1252 Stonehaven Court, Lake Mary, FL 32746. Officer: Himjit Sikand, Managing Member (QI). Application Type: New NVO & OFF License.

Delmar International (N.Y.) Inc. dba Delmar International dba Delmar International (USA) (NVO & OFF), One Cross Island Plaza, Suite 115, Rosedale, NY 11422. Officers: Robert Tayler, Vice President (QI), Robert Cutler, President. Application Type: QI Change.

Dongbu Express U.S.A. Inc. (NVO & OFF), 19191 S. Vermont Avenue, Suite 610, Torrance, CA 90502. Officers: Mi Jung Yu, Vice President (QI), Joosup Jung, CEO. Application Type: New NVO & OFF License.

Efreightsolutions LLC (NVO), 5021 Statesman Drive, Suite 200, Irving, TX 75063. Officers: Frank M. Ramirez, Assistant Secretary (QI), William Askew, Member. Application Type: QI Change.

Emarat Shipping Inc. (NVO & OFF), 1150 N. Richfield Road, Suite 8, Anaheim, CA 92807. Officer: Tareq K. Elbarq, President (QI). Application Type: Add OFF Service.

Enter to USA LLC (NVO & OFF), 1553 NW 82 Avenue, Miami, FL 33126. Officers: Julio A. Aninat, Operating Manager (QI), Rodrigo A. Armijo, Manager. Application Type: New NVO & OFF License.

HLI Logistics, LLC (NVO & OFF), 1250 Liberty Avenue, Hillside, NJ 07205. Officers: Ute Bender, Managing Director (QI), Georg Fisher, Operations Director. Application Type: New NVO & OFF License.

Knight(USA), L.L.C. (NVO & OFF), 5 Wellington Court, Eastampton, NJ 08060. Officers: Louis Simone, Operating Manager (QI), Marcario Jack, Member. Application Type: Add OFF Service.

Milogix, Inc. (NVO & OFF), 14747 Artesia Blvd., Suite 5J, La Mirada, CA 90638. Officer: Susan Choe, President (QI). Application Type: New NVO & OFF License.

Newtrans Worldwide, Inc. (NVO & OFF), 750 Arthur Avenue, Elk Grove Village, IL 60007. Officer: Kenny K. Kim, President (QI). Application Type: Add Trade Name S-Logibis (US), Inc.

Norman G. Jensen, Inc. dba Jensen Marine Services (NVO & OFF), 3050 Metro Drive, Suite 300, Minneapolis, MN 55425. Officers: Roxi Peiffer, Assistant Secretary (QI), Peter Luit, President. Application Type: QI Change.

Ocean Star International, Inc. dba O.S.I. dba International Van Lines (NVO), 3961 NW 126th Avenue, Coral Springs, FL 33065. Officer: Joshua S. Morales, President. Application Type: Removing Trade Name International Van Lines.

Piton Logistics, Inc (NVO & OFF), 1837 South State Road 7, Fort Lauderdale, FL 33317. Officers: Marlene Sookram-Sirju, President (QI), Narina Ramcharitar, Treasurer. Application Type: New NVO & OFF License.

Polmar Cargo, Inc. (NVO & OFF), 1225 NW 93rd Court, Doral, FL 33172. Officers: Handher Amador, Treasurer (QI), Jesus A. Kauam, President. Application Type: New NVO & OFF License.

Ri-Time Group, Inc (NVO), 19254 E. Walnut Drive, Suite 204, City of Industry, CA 91748. Officer: Biyu Gao, President (QI). Application Type: New NVO License.

Royal Shipping Inc. (NVO & OFF), 6846 Whitefield Street, Suite B, Dearborn Heights, MI 48127. Officers: Hussein M. Mazeh, Secretary (QI), Mariam Mazeh, President. Application Type: New NVO & OFF License.

Tapco International, Inc. (NVO & OFF), 990 West 15th Street, Riviera Beach, FL 33404. Officers: Paul Pellitieri, President (QI), Virginia Pellitieri, Vice President. Application Type: New NVO & OFF License.

Trans Atlantic Shipping L.L.C. (NVO & OFF), 25519 Hawks Run Lane, Sorrento, FL 32776. Officers: Timothy A. Voit, Vice President (QI), Stacey L. Wilson, Vice President. Application Type: Add NVO Service.

Weida Freight System, Inc. (NVO), 819 Arbor Vitae, Inglewood, CA 90301. Officers: Maria L. Trujillo, Vice President (QI), Victor Y. Wei, President. Application Type: QI Change & add Trade Name WFS Global Logistics, Inc.

By the Commission.
Dated: February 22, 2013.
Karen V. Gregory,
Secretary.

[FR Doc. 2013-04592 Filed 2-26-13; 8:45 am]

BILLING CODE 6730-01-P